FEDERAL ELECTION COMMISSION

Sunshine Act Meeting

FEDERAL REGISTER CITATION OF PREVIOUS ANNOUNCEMENT: 84 FR 28812.

PREVIOUSLY ANNOUNCED TIME AND DATE OF THE MEETING: Tuesday, June 25, 2019 at 10:00 a.m. and its continuation on Thursday, June 27, 2019 at 10:00 a.m.

CHANGES IN THE MEETING: This meeting was continued on Tuesday, July 9, 2019.

* * * * *

CONTACT PERSON FOR MORE INFORMATION: Judith Ingram, Press Officer, Telephone: (202) 694-1220.

Laura E. Sinram,
Acting Secretary and Clerk of the Commission.

[FR Doc. 2019-14893 Filed 7-9-19; 4:15 pm]

BILLING CODE 6715-01-P